DEPARTMENT OF ENERGY

Federal Energy Regulatory Commission

Combined Notice of Filings #2

Take notice that the Commission received the following electric rate filings:

Docket Numbers: ER11-2664-003.

Applicants: Powerex Corp.

Description: Powerex Corp. submits Notice of Non-Material Change in Status.

Filed Date: 5/7/12.

Accession Number: 20120507-5086.

Comments Due: 5 p.m. ET 5/29/12.

Docket Numbers: ER12-1722-000.

Applicants: Midwest Independent Transmission System Operator, Inc.

Description: Southern Illinois Power-Prairie State to be effective 5/8/2012.

Filed Date: 5/7/12.

Accession Number: 20120507-5057.

Comments Due: 5 p.m. ET 5/29/12.

Docket Numbers: ER12-1723-000.

Applicants: PJM Interconnection, L.L.C.

Description: Original Service Agreement No. 3282; Queue No. X1-116 to be effective 4/10/2012.

Filed Date: 5/7/12.

Accession Number: 20120507-5068.

Comments Due: 5 p.m. ET 5/29/12.

Docket Numbers: ER12-1724-000.

Applicants: Alabama Power Company.

Description: SMEPA Amended and Restated NITSA Filing to be effective 7/1/2012.

Filed Date: 5/7/12.

Accession Number: 20120507-5084.

Comments Due: 5 p.m. ET 5/29/12.

Docket Numbers: ER12-1725-000.

Applicants: ECP Energy I, LLC, AES Red Oak, L.L.C., Liberty Electric Power, LLC, Empire Generating Co, LLC, Dighton Power, LLC, EquiPower Resources Management, LLC, Lake Road Generating Company, L.P., MASSPOWER, Milford Power Company, LLC.

Description: Compliance filing to be effective 5/8/2012.

Filed Date: 5/7/12.

Accession Number: 20120507-5097.

Comments Due: 5 p.m. ET 5/29/12.

Docket Numbers: ER12-1726-000.

Applicants: Michigan Electric Transmission Company, LLC.

Description: Michigan Electric Transmission Company, LLC submits tariff filing per 35.13(a)(2)(iii) Certificate of Concurrence to be effective 7/1/2012.

Filed Date: 5/7/12.

Accession Number: 20120507-5108.

Comments Due: 5 p.m. ET 5/29/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 7, 2012.
Nathaniel J. Davis, Sr.,
Deputy Secretary.

[FR Doc. 2012-11643 Filed 5-14-12; 8:45 am]

BILLING CODE 6717-01-P